NUCLEAR REGULATORY COMMISSION

[NRC-2020-0246]

Physical Protection Programs at Nuclear Power Reactors Safeguards Information

AGENCY: Nuclear Regulatory Commission.

ACTION: Regulatory guide; issuance.

SUMMARY: The U.S. Nuclear Regulatory Commission (NRC) is issuing Revision 1 to Regulatory Guide (RG) 5.76, “Physical Protection Programs at Nuclear Power Reactors (SGI),” as a final RG. The NRC has revised RG 5.76 to provide licensees guidance on the implementation of the “Reasonable Assurance of Protection Time” concept. This RG (Revision 1) clarifies issues that have been identified through interactions with stakeholders and inspection activities since the original publication of the guide.

DATES: Revision 1 to RG 5.76 is available on November 30, 2020.

ADDRESSES: Revision 1 to RG 5.76 contains Safeguards Information (SGI). Therefore, this RG is being withheld from public disclosure, but is available to those affected licensees, stakeholders who have established a need to know, and cleared stakeholders who have access authorization. For access to RG 5.76, contact the individuals listed in the FOR FURTHER INFORMATION CONTACT section.

Please refer to Docket ID NRC-2020-0246 when contacting the NRC about the availability of information regarding this document. You may obtain publicly available information related to this document using any of the following methods:

• Federal Rulemaking website: Go to https://www.regulations.gov and search for Docket ID NRC-2020-0246. Address questions about Docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents is currently closed. You may submit your request to the PDR via email at PDR.Resource@nrc.gov or call 1-800-397-4209 between 8:00 a.m. and 4:00 p.m. (EST), Monday through Friday, except Federal holidays.

FOR FURTHER INFORMATION CONTACT: Gary Purdy, Office of Nuclear Security and Incident Response, telephone: 301-287-3629, email: Gary.Purdy@nrc.gov; or Mekonen Bayssie, Office of Nuclear Regulatory Research; telephone: 301-415-1699, email: Mekonen.Bayssie@nrc.gov. Both are staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Regulatory Guide 5.76 provides approaches determined to be acceptable to the NRC for meeting the requirements described in section 73.55, “Requirements for physical protection of licensed activities in nuclear power reactors against radiological sabotage,” of title 10 of the Code of Federal Regulations (10 CFR). Specifically, this revision explains that a licensee may meet the general performance objective in 10 CFR 73.55(b)(1) to provide reasonable assurance that “activities involving special nuclear material are not inimical to the common defense and security and do not constitute an unreasonable risk to the public health and safety” by having a physical protection program that is capable of independently defending against the design basis threat (DBT) of radiological sabotage for a timeframe of at least 8 hours. This timeframe, referred to as “Reasonable Assurance of Protection Time” (RAPT), recognizes the existing layers of protection available to sites along with how the safety and security of the site would evolve over time following initiation of an attack. RG 5.76, Rev. 1 has specific information for both operating power reactors and new reactors licensed under 10 CFR part 50 and 10 CFR part 52.

This revision of RG 5.76 (Revision 1) incorporates lessons learned from operating experience. Specifically, this revision clarifies issues that have been identified through interactions with stakeholders and inspection activities since the original publication of the guide.

II. Additional Information

Regulatory Guide 5.76 contains SGI. Accordingly, this RG is being withheld from public disclosure. It will be made available to those affected licensees and stakeholders who have an established need-to-know for access to the RG. The NRC did not announce the availability of the draft RG for public comment because the guide contains SGI and Official Use Only-Security Related information. Nonetheless, the NRC is issuing this notice to inform the public of the issuance of this revision to the RG.

On September 17, 2020, the NRC issued a memorandum (ADAMS Accession No. ML20258A250) transmitting the draft regulatory guide for comment to stakeholders who have an established need-to-know for access to the document. The stakeholders' comment period closed on October 23, 2020. The NRC received 13 comments from stakeholders. The comments and the associated agency responses are available to the public in ADAMS under Accession No. ML20325A209.

III. Congressional Review Act

This RG is a rule as defined in the Congressional Review Act (5 U.S.C. 801-808). However, the Office of Management and Budget has not found it to be a major rule as defined in the Congressional Review Act.

IV. Backfitting, Forward Fitting, and Issue Finality

Revision 1 of RG 5.76 provides applicants or licensees with guidance to meet the requirements set forth in 10 CFR 73.55. Licensees are not required to comply with the positions set forth in this regulatory guide. Therefore, issuance of this RG does not constitute backfitting as defined in 10 CFR 50.109, “Backfitting,” and as described in Management Directive (MD) 8.4, “Management of Backfitting, Forward Fitting, Issue Finality, and Information Requests;” constitute forward fitting as that term is defined and described in MD 8.4; or affect issue finality of any approval issued under 10 CFR part 52, “Licenses, Certificates, and Approvals for Nuclear Power Plants.” As explained in Section D., “Implementation,” of the regulatory guide, the NRC staff does not intend to use the guidance in this regulatory guide to support NRC staff actions in a manner that would constitute backfitting or forward fitting. If, in the future, the NRC seeks to impose a position in this regulatory guide in a manner that constitutes backfitting or forward fitting or affects the issue finality for a 10 CFR part 52 approval, then the NRC will address the backfitting provision in 10 CFR 50.109, the forward fitting provision of MD 8.4, or the applicable issue finality provision in 10 CFR part 52 respectively.

Dated: November 23, 2020.
For the Nuclear Regulatory Commission.
Meraj Rahimi,
Chief, Regulatory Guidance and Generic Issues Branch, Division of Engineering, Office of Nuclear Regulatory Research.

[FR Doc. 2020-26273 Filed 11-27-20; 8:45 am]

BILLING CODE 7590-01-P